DEPARTMENT OF ENERGY

Federal Energy Regulatory Commission

[Docket No. CP98-150-000, et al.]

Millennium Pipeline Company, L.P.; Notice of Meeting

August 15, 2001.

The Federal Energy Regulatory Commission (FERC) will conduct a comment meeting on environmental issues for the proposed Millennium Pipeline Project filed in the above-referenced docket.

The meeting will be held on September 4, 2001 at 7 p.m. at the following location: Thorton Elementary School, 121 South 6th Street, Mount Vernon, NY 10550.

Additional information may be obtained from the Commission's Office of External Affairs, at (202) 208-1088.

David P. Boergers,
Secretary.

[FR Doc. 01-20956 Filed 8-20-01; 8:45 am]

BILLING CODE 6717-01-P